DEPARTMENT OF VETERANS AFFAIRS

Privacy Act of 1974; Matching Program

AGENCY: Department of Veterans Affairs (VA).

ACTION: Notice of a modified matching program.

SUMMARY: The Department of Veterans Affairs (VA) provides notice that it intends to conduct a recurring computer-matching program matching Social Security Administration (SSA) Master Beneficiary Records (MBRs) and the Master Files of Social Security Number (SSN) Holders and SSN Applications (Enumeration System) with VA pension, compensation, and dependency and indemnity compensation (DIC) records. The goal of this match is to identify beneficiaries, who are receiving VA benefits and SSA benefits or earned income, and to reduce or terminate VA benefits, if appropriate. The match will include records of current VA beneficiaries.

DATES: Comments on this matching program must be received no later than 30 days after date of publication in the Federal Register]. If no public comment is received during the period allowed for comment or unless otherwise published in the Federal Register by VA, the new agreement will become effective a minimum of 30 days after date of publication in the Federal Register. If VA receives public comments, VA shall review the comments to determine whether any changes to the notice are necessary. This matching program will be valid for 18 months from the effective date of this notice.

ADDRESSES: Comments may be submitted through www.Regulations.gov or mailed to VA Privacy Service, 810 Vermont Avenue NW, (005R1A), Washington, DC 20420. Comments should indicate that they are submitted in response to Verify Unearned Income Information (DIFSLA). Comments received will be available at regulations.gov for public viewing, inspection or copies.

FOR FURTHER INFORMATION CONTACT: Victor Hall, (202) 461-9385, victor.hall2@va.gov, Pension and Fiduciary Service, Front Office, Pension and Fiduciary Service (21P), Department of Veterans Affairs, 810 Vermont Ave. NW, Washington, DC 20420, (202) 632-8863

SUPPLEMENTARY INFORMATION: VA will use this information to verify the income information submitted by beneficiaries in VA's needs-based benefit programs and adjust VA benefit payments as prescribed by law.

The legal authority to conduct this match is 38 U.S.C. 5106, which requires any Federal department or agency to provide VA such information as VA requests for the purposes of determining eligibility for benefits or verifying other information with respect to payment of benefits.

The VA records involved in the match are in “Compensation, Pension and Education and Rehabilitation Records—VA (58 VA 21/22/28),” a system of records which was first published at 41 FR 9294 (March 3, 1976), amended and republished in its entirety at 86 FR 61858(November 8, 2021). The SSA records consist of information from the system of records identified as the SSA MBR, 60-0090, and SSA Enumeration System, 60-0058.

In accordance with the Privacy Act, 5 U.S.C. 552a(o)(2) and (r), copies of the agreement are being sent to both Houses of Congress and to the Office of Management and Budget. This notice is provided in accordance with the provisions of Privacy Act of 1974 as amended by Public Law 100-503.

Participating Agencies: The Social Security Administration (SSA) and Department of Veterans Affairs (VA).

Authority for Conducting the Matching Program: 38 U.S.C 5106 and 38 CFR, chapter 1, part 4 authorize VA to enter into this CMA with SSA.

Purpose(s): To re-establish a CMA with SSA for determining eligibility to continue to receive benefits authorized by the Department of Veterans Affairs (VA).

Categories of Individuals: Veterans and beneficiaries who apply for VA income benefits.

Categories of Records: VA will provide SSA with an electronic file in a format defined by SSA that contains the necessary identifying information for applicable beneficiaries and their dependents. Each VA input file will contain the following variables:

1. Social Security Number for Primary Number Holder

2. Last Name

3. First Name

4. Middle Name/Initial

5. Date of Birth (MMDDCCYY)

6. Sex Code (Blank)

7. VA File Number

8. Agency Code “VA”

9. Type of Benefit

10. Veteran with Spouse Indicator

11. Payee Number

12. Type of Record

13. Verified Payment Indicator

14. Verification Indicator

15. Processing Code “212”

16. Verification Account Number (VAN)

17. Blanks, or Multiple Request Code.

SSA will match the file against the Enumeration System and MBR will generate an output file with information on the following variables for each of VA's records containing a verified SSN:

1. Verification Code

2. Death Indicator

3. Filler

4. Type of Benefit—Retirement (R), Disability (D) or Survivor (S)

5. MCB (Monthly Benefit Credited)

6. MBP (Monthly Benefit Payment)

7. Medicare Deduction (SMI-B)

8. Effective Date of Monthly Social Security Payment “CCYYMM”

9. LAF Code (D = Deferred/withheld money), (E = Monies paid through Railroad Board), (C = Current Pay)

10. Type of Benefit—Retirement (R), Disability (D) or Survivor (S)

11. MCB (Monthly Benefit Credited)

12. MBP (Monthly Benefit Payment)

13. Medicare Deduction (SMI-B)

14. Effective Date of Monthly Social Security Payment “CCYYMM”

15. LAF Code (D = Deferred/withheld money), (E = Monies paid through Railroad Board), (C = Current Pay)

16. Type of Benefit—Retirement (R), Disability (D) or Survivor (S)

17. MCB (Monthly Benefit Credited)

18. MBP (Monthly Benefit Payment)

19. Medicare Deduction (SMI-B)

20. Effective Date of Monthly Social Security Payment “CCYYMM”

21. LAF Code (D = Deferred/withheld money), (E = Monies paid through Railroad Board), (C = Current Pay)

22. Filler

“Some terms are repeated.

SYSTEM(S) OF RECORDS: SSA will disclose the necessary benefit information electronically from the files of the MBR, system of records number 60-0090, last fully published at 71 FR 1826 (January 11, 2006), amended at 72 FR 69723 (December 10, 2007), and at 78 FR 40542 (July 5, 2013), 83 FR 31250-31251 (July 3, 2018) and 83 FR 54969 (November 1, 2018). SSA will disclose SSN verification information from the Enumeration System, system of records number 60-0058, last fully published at 75 FR 82121 (December 29, 2010), amended at 78 FR 40542 (July 5, 2013), and at 79 FR 8780 (February 13, 2014), 83 FR 31250-31251 (July 3, 2018), and 83 FR 54969 (November 1, 2018).

VA records involved in this match are in “VA Compensation, Pension, Education, and Vocational Rehabilitation and Employment Records -VA” (58 VA 21/22/28), a system of records that was first published at 41 FR 9294 (March 3, 1976), amended at 77 FR 42594 (July 19, 2012), and last amended and republished in its entirety at 84 FR 4138 (February 14, 2019).

Signing Authority

The Senior Agency Official for Privacy, or designee, approved this document and authorized the undersigned to sign and submit the document to the Office of the Federal Register for publication electronically as an official document of the Department of Veterans Affairs. Faith Roy, Acting Deputy Chief Information Security Officer, Office of Information and Technology and VA Chief Privacy Officer, approved this document on July 11, 2022 for publication.

Dated: August 5, 2022
Amy L. Rose,
Program Analyst, VA Privacy Service, Office of Information Security, Office of Information and Technology, Department of Veterans Affairs.

[FR Doc. 2022-17191 Filed 8-9-22; 8:45 am]

BILLING CODE 8320-01-P